DEPARTMENT OF DEFENSE

Defense Information Systems Agency

Membership of the Defense Information Systems Agency Senior Executive Service (SES) Performance Review Board (PRB)

AGENCY: Defense Information System Agency.

ACTION: Notice of membership of the Defense Information Systems, Agency Performance Review Board.

SUMMARY: This notice announces the appointment of the members of the Performance Review Board of the Defense Information Systems Agency. The publication of membership is required by 5 U.S.C. 4314(c)(4).

The Performance Review Board provides fair and impartial review of Senior Executive Service performance appraisals and makes recommendations regarding performance ratings and performance awards to the Director, DISA.

EFFECTIVE DATES: June 28, 2002.

FOR FURTHER INFORMATION CONTACT: Ms. Anita Brooks, SES Program Manager, Civilian Personnel Division, Manpower, Personnel and Security Directorate, Defense Information Systems Agency (703) 607-4411.

SUPPLEMENTARY INFORMATION: In accordance with 5 U.S.C. 4314(c)(4), the following are names and titles of the executives who have been appointed to serve as members of the DISA SES Performance Review Board. They will serve a one-year renewable term, effective 28 June 2002.

Ms. Diann L. McCoy, Principal Director for Applications Engineering, DISA.

James David Bryan, Major General, USA, Vice Director, DISA.

Mr. John Penkoske, Director for Manpower, Personnel, and Security, DISA.

Mr. Robert Hutten, Director for Strategic Plans, Programming and Policy, DISA.

Sue A. Engelhardt,
Chief, Civilian Personnel Division.

[FR Doc. 02-18558 Filed 7-22-02; 8:45 am]

BILLING CODE 3610-05-M